DEPARTMENT OF COMMERCE

Bureau of Economic Analysis

Agency Information Collection Activities; Submission to the Office of Management and Budget (OMB) for Review and Approval; Comment Request; Direct Investment Surveys: BE-15, Annual Survey of Foreign Direct Investment in the United States

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 07/10/2025 during a 60-day comment period. This notice allows for an additional 30 days for public comments.

Agency: Bureau of Economic Analysis (BEA), Department of Commerce.

Title: Annual Survey of Foreign Direct Investment in the United States.

OMB Control Number: 0608-0034.

Form Number: BE-15.

Type of Request: Revision.

Number of Respondents: 6,400 annually, of which approximately 3,200 file A forms, 1,600 file B forms, 1,000 file C forms, and 600 file Claim for Exemption forms.

Average Hours per Response: 23.5 hours per respondent (150,700 hours/6,400 respondents) is the average but may vary considerably among respondents because of differences in company size and complexity.

Burden Hours: 150,700 hours. Total annual burden is calculated by multiplying the estimated number of submissions of each form by the average hourly burden per form, which is 44.45 hours for the A form, 3.6 hours for the B form, 2.1 hours for the C form, and 1 hour for the Claim for Exemption form.

Needs and Uses: The Annual Survey of Foreign Direct Investment in the United States (BE-15) obtains sample data on the financial structure and operations of foreign-owned U.S. business enterprises. The data are needed to provide reliable, useful, and timely measures of foreign direct investment in the United States to assess its impact on the U.S. economy. The sample data are used to derive universe estimates in nonbenchmark years from similar data reported in the BE-12 benchmark survey, which is conducted every five years. The data collected include balance sheets; income statements; property, plant, and equipment; employment and employee compensation; merchandise trade; sales of goods and services; taxes; and research and development activity for the U.S. operations. In addition to this national data, several data items are collected by state, including employment and property, plant, and equipment.

Affected Public: Businesses or other for-profit organizations.

Frequency: Annual.

Respondent's Obligation: Mandatory.

Legal Authority: International Investment and Trade in Services Survey Act (Pub. L. 94-472, 22 U.S.C. 3101-3108, as amended).

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under Review—Open for Public Comments” or by using the search function and entering either the title of the collection or the OMB Control Number 0608-0034.

Sheleen Dumas,
Departmental PRA Compliance Officer, Office of the Under Secretary for Economic Affairs, Commerce Department.

[FR Doc. 2025-17409 Filed 9-9-25; 8:45 am]

BILLING CODE 3510-06-P